DEPARTMENT OF COMMERCE

International Trade Administration

[A-570-986]

Hardwood and Decorative Plywood From the People's Republic of China: Initiation of Antidumping Duty Investigation

AGENCY: Import Administration, International Trade Administration, Department of Commerce.

DATES: Effective Date: October 25, 2012.

FOR FURTHER INFORMATION CONTACT: Catherine Bertrand or Katie Marksberry at (202) 482-3207 or (202) 482-7906, respectively, AD/CVD Operations, Office 9, Import Administration, International Trade Administration, U.S. Department of Commerce, 14th Street and Constitution Avenue NW., Washington, DC 20230.

SUPPLEMENTARY INFORMATION:

The Petition

On September 27, 2012, the Department of Commerce (“Department”) received an antidumping duty (“AD”) petition (“Petition”) concerning imports of hardwood and decorative plywood from the People's Republic of China (“PRC”) filed in proper form on behalf of Coalition for Fair Trade of Hardwood Plywood (“Petitioners”).¹ On October 2, 2012, the Department issued a request for additional information and clarification of certain areas of the Petition. On October 5 and October 9, 2012, Petitioners filed a response with respect to general questions about information in the Petition as well as questions specific to the AD Petition (“Supplement to the Petition”). On October 15, 2012, Petitioners also filed a revision to the proposed scope language and additional supporting documentation.

¹ See “Petitions for the Imposition of Antidumping Duties And Countervailing Duties: Hardwood Plywood From The People's Republic of China,” filed on September 27, 2012 (“Petition”).

In accordance with section 732(b) of the Tariff Act of 1930, as amended (the “Act”), Petitioners allege that imports of hardwood and decorative plywood from the PRC are being, or are likely to be, sold in the United States at less than fair value, within the meaning of section 731 of the Act, and that such imports are materially injuring, or threatening material injury to, an industry in the United States. Also, consistent with section 732(b)(1) of the Act, the Petition is accompanied by information reasonably available to Petitioners supporting their allegations.

The Department finds that the Petition was filed on behalf of the domestic industry because Petitioners are an interested party as defined in sections 771(9)(C), (E), and (F) of the Act. The Department also finds that Petitioners have demonstrated sufficient industry support with respect to the antidumping duty investigation that Petitioners are requesting that the Department initiate (see “Determination of Industry Support for the Petition” section below).

Period of Investigation

The period of investigation (“POI”) is January 1, 2012, through June 30, 2012.²

² See 19 CFR 351.204(b)(1).

Scope of the Investigation

The product covered by this investigation is hardwood and decorative plywood from the PRC. For a full description of the scope of the Investigation, please see the “Scope of the Investigation,” in Appendix I of this notice.

Comments on Scope of the Investigation

During our review of the Petition, we discussed the scope with Petitioners to ensure that it is an accurate reflection of the products for which the domestic industry is seeking relief. Moreover, as discussed in the preamble to the Department's regulations ³, we are setting aside a period for interested parties to raise issues regarding product coverage. The period of scope consultations is intended to provide the Department with ample opportunity to consider all comments and to consult with parties prior to the issuance of the preliminary determinations. The Department encourages all interested parties to submit such comments by November 6, 2012, twenty calendar days from the signature date of this notice. All comments must be filed on the records of both the PRC antidumping and countervailing duty investigations. Comments should be filed electronically using Import Administration's Antidumping and Countervailing Duty Centralized Electronic Service System (“IA ACCESS”). An electronically filed document must be received successfully in its entirety by the Department's electronic records system, IA ACCESS. Documents excepted from the electronic submission requirements must be filed manually (i.e., in paper form) with the APO/Dockets Unit in Room 1870 and stamped with the date and time of receipt by the deadline noted above.

³ See Antidumping Duties; Countervailing Duties; Final Rule, 62 FR 27296, 27323 (May 19, 1997).

Comments on Product Characteristics for Antidumping Questionnaires

We are requesting comments from interested parties regarding the appropriate physical characteristics of hardwood and decorative plywood to be reported in response to the Department's antidumping questionnaires. This information will be used to identify the key physical characteristics of the merchandise under consideration in order to more accurately report the relevant factors and costs of production, as well as to develop appropriate product comparison criteria.

Interested parties may provide any information or comments that they feel are relevant to the development of an accurate listing of physical characteristics. Specifically, they may provide comments as to which characteristics are appropriate to use as (1) general product characteristics and (2) the product comparison criteria. We note that it is not always appropriate to use all product characteristics as product comparison criteria. We base product comparison criteria on meaningful commercial differences among products. In other words, while there may be some physical product characteristics utilized by manufacturers to describe hardwood and decorative plywood, it may be that only a select few product characteristics take into account commercially meaningful physical characteristics. In addition, interested parties may comment on the order in which the physical characteristics should be used in product matching. Generally, the Department attempts to list the most important physical characteristics first and the least important characteristics last.

In order to consider the suggestions of interested parties in developing and issuing the antidumping questionnaires, we must receive comments on product characteristics by November 16, 2012. Additionally, rebuttal comments must be received by November 23, 2012. All comments and submissions to the Department must be filed electronically using IA ACCESS, as referenced above.

Determination of Industry Support for the Petition

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the industry.

Section 771(4)(A) of the Act defines the “industry” as the producers as a whole of a domestic like product. Thus, to determine whether a petition has the requisite industry support, the statute directs the Department to look to producers and workers who produce the domestic like product. The U.S. International Trade Commission (“ITC”), which is responsible for determining whether “the domestic industry” has been injured, must also determine what constitutes a domestic like product in order to define the industry. While both the Department and the ITC must apply the same statutory definition regarding the domestic like product,⁴ they do so for different purposes and pursuant to a separate and distinct authority. In addition, the Department's determination is subject to limitations of time and information. Although this may result in different definitions of the like product, such differences do not render the decision of either agency contrary to law.⁵

⁴ See section 771(10) of the Act.

⁵ See USEC, Inc. v. United States, 132 F. Supp. 2d 1, 8 (CIT 2001), (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, Petitioners do not offer a definition of domestic like product distinct from the scope of the investigations. Based on our analysis of the information submitted on the record, we have determined that hardwood and decorative plywood constitutes a single domestic like product and we have analyzed industry support in terms of that domestic like product.⁶

⁶ See Antidumping Duty Investigation Initiation Checklist: Hardwood and Decorative Plywood from the People's Republic of China (“AD Initiation Checklist”), at Attachment II, Analysis of Industry Support for the Petitions Covering Hardwood and Decorative Plywood from the People's Republic of China, on file in the Central Records Unit (CRU), Room 7046 of the main Department of Commerce building.

In determining whether Petitioners have standing under section 732(c)(4)(A) of the Act, we considered the industry support data contained in the Petition with reference to the domestic like product as defined in the “Scope of Investigations” section above. To establish industry support, Petitioners provided their production of the domestic like product in 2011, and compared this to the estimated total production of the domestic like product for the entire domestic industry.⁷ Petitioners estimated 2011 production of the domestic like product by non-petitioning companies based on their knowledge of the industry. We have relied upon data Petitioners provided for purposes of measuring industry support.⁸

⁷ See Volume I of the Petitions, at 3-5, and Exhibits I-3A, I-3B, and I-3C; see also Supplement to the Petition, at 3 and Exhibit I-9; see also Second Supplement to the AD/CVD Petitions, dated October 9, 2012, at 2-8.

⁸ See AD Initiation Checklist at Attachment II.

On October 9, 2012, we received a submission on behalf of an importer of hardwood and decorative plywood, an interested party to this proceeding as defined in section 771(9)(A) of the Act, questioning the industry support calculation. On October 11, 2012, we received a second submission on behalf of that importer of hardwood and decorative plywood, supplementing the importer's October 9, 2012, challenge to Petitioners' industry support calculation. On October 15, 2012, Petitioners filed their response to the importer's industry support challenge.⁹ On October 16, 2012, we received a third submission on behalf of the importer of hardwood and decorative plywood. On October 17, 2012, Petitioners submitted an additional response to the importer's industry support challenge.

⁹ For further discussion of these submissions, see AD Initiation Checklist at Attachment II.

Based on information provided in the Petition, supplemental submissions, and other information readily available to the Department, we determine that Petitioners have met the statutory criteria for industry support under section 732(c)(4)(A)(i) of the Act because the domestic producers (or workers) who support the Petition account for at least 25 percent of the total production of the domestic like product.¹⁰ Based on information provided in the Petition and other submissions, the domestic producers (or workers) have met the statutory criteria for industry support under section 732(c)(4)(A)(ii) of the Act because the domestic producers (or workers) who support the Petition account for more than 50 percent of the production of the domestic like product produced by that portion of the industry expressing support for, or opposition to, the Petition. Accordingly, the Department determines that the Petition was filed on behalf of the domestic industry within the meaning of section 732(b)(1) of the Act.¹¹

¹⁰ See AD Initiation Checklist at Attachment II.

¹¹ See AD Initiation Checklist at Attachment II.

The Department finds that Petitioners filed the Petition on behalf of the domestic industry because they are interested parties as defined in sections 771(9)(C), (E), and (F) of the Act and they have demonstrated sufficient industry support with respect to the antidumping duty investigation that they are requesting the Department initiate.¹²

¹² Id.

Allegations and Evidence of Material Injury and Causation

Petitioners allege that the U.S. industry producing the domestic like product is being materially injured, or is threatened with material injury, by reason of the imports of the merchandise under consideration sold at less than normal value (“NV”). In addition, Petitioners allege that subject imports exceed the negligibility threshold provided for under section 771(24)(A) of the Act.

Petitioners contend that the industry's injured condition is illustrated by reduced market share; underselling and price depression or suppression; lost sales and revenue; reduced capacity and capacity utilization; increased inventories; decline in financial performance; and employment data.¹³ We have assessed the allegations and supporting evidence regarding material injury, threat of material injury, and causation, and we have determined that these allegations are properly supported by adequate evidence and meet the statutory requirements for initiation.¹⁴

¹³ See Volume I of the Petition, at 14-57 and Exhibits I-9 through I-27, and Supplement to the Petition, at 1, 3-4, and Exhibits Supp I-2 through Supp I-4.

¹⁴ See AD Initiation Checklist, at Attachment III.

Allegations of Sales at Less Than Fair Value

The following is a description of the allegations of sales at less than fair value upon which the Department based its decision to initiate this investigation of imports of hardwood and decorative plywood from the PRC. The sources of data for the deductions and adjustments relating to the U.S. price and the factors of production (“FOPs”) are also discussed in the initiation checklist.¹⁵

¹⁵ See AD Initiation Checklist at 6-7.

Export Price

Petitioners calculated export price (“EP”) based on two invoices for hardwood and decorative plywood sold by Chinese exporters, as identified in affidavits regarding U.S. price.¹⁶ Based on the invoices and delivery terms, Petitioners deducted from these prices the charges and expenses associated with exporting and delivering the product to the U.S. customer (e.g. brokerage and handling and foreign inland freight).¹⁷ Petitioners made no other adjustments.¹⁸

¹⁶ See AD Initiation Checklist at 6; see also Volume II of the Petition, at 1-2 and Exhibits II-1 through 3.

¹⁷ See AD Initiation Checklist at 6-7; see also Volume II of the Petition, at 2 and Exhibits II-4 through II-11; see also Supplement to the Petition, at 8.

¹⁸ See Volume II of the Petition, at 2 and Exhibit II-11.

Normal Value

Petitioners state that the Department has long treated the PRC as a non-market economy (“NME”) country and this designation remains in effect today.¹⁹ In accordance with section 771(18)(C)(i) of the Act, the presumption of NME status remains in effect until revoked by the Department. The presumption of NME status for the PRC has not been revoked by the Department and, therefore, remains in effect for purposes of the initiation of the PRC investigation. Accordingly, the NV of the product for the PRC investigation is appropriately based on FOPs valued in a surrogate market-economy (“ME”) country in accordance with section 773(c) of the Act. In the course of the investigation, all parties will have the opportunity to provide relevant information related to the issue of the PRC's NME status and the granting of separate rates to individual exporters.

¹⁹ See Volume II of the Petitions, at 3-6 and Exhibits II-12-14.

Petitioners claim that Thailand is an appropriate surrogate country under 19 CFR 351.408(a) because it is an ME country that is at a comparable level of economic development to the PRC and surrogate values data from Thailand are available and reliable. Petitioners also believe that Thailand is a significant producer of comparable merchandise.²⁰ Based on the information provided by Petitioners, we believe that it is appropriate to use Thailand as a surrogate country for initiation purposes. In the course of the investigation, interested parties will have the opportunity to submit comments regarding surrogate country selection and, pursuant to 19 CFR 351.301(c)(3)(i), will be provided an opportunity to submit publicly available information to value FOPs within 40 days after the date of publication of the preliminary determination.

²⁰ See Volume II of the Petition, at 3-6.

Petitioners calculated the NV and dumping margins for the U.S. price, as discussed above, using the Department's NME methodology as required by section 773(c) of the Act, 19 CFR 351.202(b)(7)(i)(C) and 19 CFR 351.408. Petitioners calculated NV based on the consumption rates of a producer of hardwood and decorative plywood which Petitioners assert is comparable to major hardwood and decorative plywood producers in the PRC.²¹

²¹ See Volume II of the Petition, at 6 and Exhibits II-15 and II-16.

Petitioners valued by-products and most FOPs, including packing FOPs, based on reasonably available, public surrogate country data, specifically, Thai import statistics from the Global Trade Atlas (“GTA”).²² Petitioners excluded from these import statistics values from countries previously determined by the Department to be NME countries, and from India, Indonesia, and the Republic of Korea, as the Department has previously excluded prices from these countries because they maintain broadly available, non-industry-specific export subsidies. Finally, the import statistics average unit values do not include imports that were labeled as originating from an “unspecified” country, because the Department could not be certain that they were not from either an NME country or a country with generally available export subsidies.²³ For valuing other FOPs, Petitioners used sources selected by the Department in recent proceedings involving the PRC or publicly available sources from Thailand.²⁴ In addition, Petitioners made Thai Baht/U.S. dollar (“USD”) currency conversions using the POI-average Thai baht/USD exchange rate, as reported on the Department's Web site.²⁵

²² See Volume II of the Petition, at 7 and Exhibit II-17; see also Supplement to Petition at 5-8.

²³ See, e.g., Polyethylene Terephthalate Film, Sheet, and Strip from the People's Republic of China: Preliminary Determination of Sales at Less Than Fair Value, 73 FR 24552, 24559 (May 5, 2008), unchanged in Polyethylene Terephthalate Film, Sheet, and Strip from the People's Republic of China: Final Determination of Sales at Less Than Fair Value, 73 FR 55039 (September 24, 2008); see also Volume II of the Petition, at Exhibit II-17.

²⁴ See AD Initiation Checklist at 8; see also Volume II of the Petition at 4.

²⁵ See Volume II of the Petition, at 8 and Exhibit II-20.

Petitioners valued labor costs using Thai wage rates for manufacturing industries, as reported by the International Labor Organization (“ILO”) in Table 6A of its Yearbook of Labor Statistics.²⁶ Petitioners inflated the wage rate to be contemporaneous with the POI using the International Financial Statistics' consumer price index inflators, consistent with the Department's practice.²⁷

²⁶ See Volume II of the Petition, at 7-8 and Exhibit II-19.

²⁷ See Volume II of the Petition, at 7 and Exhibit II-19.

Petitioners used the 2010 Annual Report of the Electricity Generating Authority of Thailand to calculate the value for electricity usage.²⁸ Additionally, Petitioners based factory overhead, selling, general and administrative expenses (“SG&A”), and profit on data from the financial statement Phang-Nga Timber Industries (“Phang-Nga”), for the year ending December 31, 2011.²⁹ Phang-Nga is a Thai producer of plywood.³⁰

²⁸ See Volume II of the Petition, at 8 and Exhibit II-21.

²⁹ See Volume II of the Petition, at 8 and Exhibits II-7, II-22 and II-23.

³⁰ See Volume II of the Petition, at 8 and Exhibit II-24.

Fair Value Comparisons

Based on the data provided by Petitioners, there is reason to believe that imports of hardwood and decorative plywood from the PRC are being, or are likely to be, sold in the United States at less than fair value. Based on a comparison of EPs and NV calculated in accordance with section 773(c) of the Act, the estimated dumping margins for hardwood and decorative plywood from the PRC range from 298.36 percent to 321.68 percent.³¹

³¹ See AD Initiation Checklist at 10.

Initiation of Antidumping Investigation

Based upon the examination of the Petition on hardwood and decorative plywood from the PRC, the Department finds that the Petition meets the requirements of section 732 of the Act. Therefore, we are initiating an antidumping investigation to determine whether imports of hardwood and decorative plywood from the PRC are being, or are likely to be, sold in the United States at less than fair value. In accordance with section 733(b)(1)(A) of the Act and 19 CFR 351.205(b)(1), unless postponed, we will make our preliminary determinations no later than 140 days after the date of this initiation.

Application of an Alternative Comparison Methodology

Pursuant to 19 CFR 351.414(c)(1) (2012), in calculating the weighted-average dumping margins in this investigation, the Department will compare weighted-average export prices (EPs) (or constructed export prices (CEPs)) with weighted-average normal values (the average-to-average method) unless it is determined that another method is appropriate in a particular case. If any interested party wishes to request the Department consider whether it is appropriate in this investigation to apply an alternative comparison methodology pursuant to 19 CFR 351.414(c)(1) (2012), such requests are due no later than 45 days before the scheduled date of the preliminary determination.

Respondent Selection and Quantity and Value Questionnaire

After considering the large number of producers and exporters of hardwood and decorative plywood from the PRC identified by Petitioners, and considering the resources that must be utilized by the Department to mail quantity and value questionnaires to all 481 identified producers and exporters—including entering each address in a shipping handler's Web site, researching companies' addresses to ensure correctness, organizing mailings, and following up on potentially undeliverable mailings—the Department has thus determined that we do not have sufficient administrative resources to mail quantity and value questionnaires to all 481 identified producers and exporters.³² Therefore, the Department has determined to limit the number of quantity and value questionnaires it will send out to exporters and producers based on U.S. Customs and Border Protection (“CBP”) data for U.S. imports under the Harmonized Tariff Schedule of the United States (“HTSUS”) numbers which cover imports of hardwood and decorative plywood and which are listed in the scope of the investigation.³³ Therefore, the Department will send quantity and value questionnaires based on the largest producers and exporters of hardwood and decorative plywood from the PRC by value in the CBP data run.³⁴

³² See Volume I of the Petition, at Exhibit I-7.

³³ See the “Scope of the Investigation,” in Appendix I of this notice.

³⁴ We used the value of CBP data because CBP volume data reflect inconsistent units of measure that cannot be converted into a common unit of measure.

The quantity and value data received from Chinese exporters/producers will be used as the basis for selecting the mandatory respondents. The Department requires that the respondents submit a response to both the quantity and value questionnaire and the separate-rate application by the respective deadlines, as discussed below and in the “Separate Rates” section, in order to receive consideration for separate-rate status.³⁵

³⁵ See, e.g., Circular Welded Austenitic Stainless Pressure Pipe from the People's Republic of China: Initiation of Antidumping Duty Investigation, 73 FR 10221, 10225 (February 26, 2008); see also Initiation of Antidumping Duty Investigation: Certain Artist Canvas From the People's Republic of China, 70 FR 21996, 21999 (April 28, 2005).

In addition, the Department will post the quantity and value questionnaire along with the filing instructions on the Import Administration Web site (http://ia.ita.doc.gov/ia-highlights-and-news.html). Exporters and producers of hardwood and decorative plywood that do not receive quantity and value questionnaires via mail may still submit a quantity and value response and can obtain a copy from the Import Administration Web site. The quantity and value questionnaire must be submitted by all Chinese exporters/producers no later than November 7, 2012, 21 days from the signature date of this Federal Register notice. All quantity and value questionnaires must be filed electronically using IA ACCESS. An electronically filed document must be received successfully in its entirety by the Department's electronic records system, IA ACCESS. Documents excepted from the electronic submission requirements must be filed manually (i.e., in paper form) with the APO/Dockets Unit in Room 1870 and stamped with the date and time of receipt by the deadline noted above.

Interested parties must submit applications for disclosure under APO in accordance with 19 CFR 351.305. Instructions for filing such applications may be found on the Department's Web site at http://ia.ita.doc.gov/apo.

Separate Rates

In order to obtain separate-rate status in an NME investigation, exporters and producers must submit a separate-rate status application.³⁶ The specific requirements for submitting the separate-rate application in this investigation are outlined in detail in the application itself, which will be available on the Department's Web site at http://trade.gov/ia/ia-highlights-and-news.html on the date of publication of this initiation notice in the Federal Register. The separate-rate application will be due 60 days after publication of this initiation notice. For exporters and producers who submit a separate-rate status application and subsequently are selected as mandatory respondents, these exporters and producers will no longer be eligible for consideration for separate rate status unless they respond to all parts of the questionnaire as mandatory respondents. As noted in the “Respondent Selection” section above, the Department requires that the PRC respondents submit a response to both the quantity and value questionnaire and the separate-rate application by the respective deadlines in order to receive consideration for separate-rate status. The quantity and value questionnaire will be available on the Department's Web site at http://trade.gov/ia-highlights-and-news.html on the date of the publication of this initiation notice in the Federal Register.

³⁶ See Policy Bulletin 05.1: Separate-Rates Practice and Application of Combination Rates in Antidumping Investigation involving Non-Market Economy Countries (April 5, 2005) (“Separate Rates and Combination Rates Bulletin”), available on the Department's Web site at http://trade.gov/ia/policy/bull05-1.pdf.

Use of Combination Rates

The Department will calculate combination rates for certain respondents that are eligible for a separate rate in this investigation. The Separate Rates and Combination Rates Bulletin states:

{w}hile continuing the practice of assigning separate rates only to exporters, all separate rates that the Department will now assign in its NME Investigation will be specific to those producers that supplied the exporter during the period of investigation. Note, however, that one rate is calculated for the exporter and all of the producers which supplied subject merchandise to it during the period of investigation. This practice applies both to mandatory respondents receiving an individually calculated separate rate as well as the pool of non-investigated firms receiving the weighted-average of the individually calculated rates. This practice is referred to as the application of “combination rates” because such rates apply to specific combinations of exporters and one or more producers. The cash-deposit rate assigned to an exporter will apply only to merchandise both exported by the firm in question and produced by a firm that supplied the exporter during the period of investigation.³⁷

³⁷ See Separate Rates and Combination Rates Bulletin, at 6 (emphasis added).

Distribution of Copies of the Petition

In accordance with section 732(b)(3)(A) of the Act and 19 CFR 351.202(f), a copy of the public version of the Petition has been provided to the representatives of the Chinese Government. Because of the particularly large number of producers/exporters identified in the Petition, the Department considers the service of the public version of the Petition to the foreign producers/exporters satisfied by the delivery of the public version of the Petition to the PRC Government, consistent with 19 CFR 351.203(c)(2).

ITC Notification

We have notified the ITC of our initiation, as required by section 732(d) of the Act.

Preliminary Determination by the ITC

The ITC will preliminarily determine, no later than November 13, 2012, whether there is a reasonable indication that imports of hardwood and decorative plywood from the PRC are materially injuring, or threatening material injury to a U.S. industry. A negative ITC determination will result in the investigation being terminated; otherwise, this investigation will proceed according to statutory and regulatory time limits.

Notification to Interested Parties

Interested parties must submit applications for disclosure under APO in accordance with 19 CFR 351.305(b). On January 22, 2008, the Department published Antidumping and Countervailing Duty Proceedings: Documents Submission Procedures; APO Procedures, 73 FR 3634 (January 22, 2008). Parties wishing to participate in this investigation should ensure that they meet the requirements of these procedures (e.g., the filing of letters of appearance as discussed at 19 CFR 351.103(d)).

Any party submitting factual information in an AD/CVD proceeding must certify to the accuracy and completeness of that information.³⁸ Parties are hereby reminded that revised certification requirements are in effect for company/government officials as well as their representatives in all segments of any AD/CVD proceeding initiated on or after March 14, 2011.³⁹ The formats for the revised certifications are provided at the end of the Interim Final Rule and the Supplemental Interim Final Rule. The Department intends to reject factual submissions in any proceeding segments initiated on or after March 14, 2011, if the submitting party does not comply with the revised certification requirements.

³⁸ See Section 782(b) of the Act.

³⁹ See Certification of Factual Information to Import Administration During Antidumping and Countervailing Duty Proceedings: Interim Final Rule, 76 FR 7491 (February 10, 2011) (“Interim Final Rule”) (amending 19 CFR 351.303(g)(1) & (2)), as supplemented by Certification of Factual Information to Import Administration During Antidumping and Countervailing Duty Proceedings: Supplemental Interim Final Rule, 76 FR 54697 (September 2, 2011) (“Supplemental Interim Final Rule”).

This notice is issued and published pursuant to section 777(i) of the Act.

Dated: October 17, 2012.
Paul Piquado,
Assistant Secretary for Import Administration.

[FR Doc. 2012-26221 Filed 10-24-12; 8:45 am]

BILLING CODE 3510-DS-P